DEPARTMENT OF DEFENSE

Department of the Navy

Notice of Intent To Prepare an Environmental Impact Statement/Overseas Environmental Impact Statement for Navy Atlantic Fleet Training in the Navy Cherry Point Range Complex and Notice of Public Scoping Meetings

AGENCY: Department of the Navy, DOD.

ACTION: Notice.

SUMMARY: Pursuant to Section (102)(2)(c) of the National Environmental Policy Act (NEPA) of 1969, as implemented by the Council on Environmental Quality Regulations (40 CFR parts 1500-1508), and Executive Order 12114, the Department of Navy (Navy) announces its intent to prepare an Environmental Impact Statement (EIS)/Overseas EIS to evaluate the potential environmental consequences associated with naval training operations in the Navy Cherry Point (CP) Range Complex. The Navy proposes to support current and emerging training and research, development, test, and evaluation (RDT&E) operations in the Navy CP Range Complex by: (1) Maintaining baseline operations at current levels; (2) increasing training operations from current levels as necessary to support the Fleet Readiness Training Plan (FRTP); (3) accommodating mission requirements associated with force structure change; and (4) implementing enhanced range complex capabilities. The EIS/OEIS study area is the Navy CP Range Complex which consists of surface and subsurface operating areas (OPAREAs), special use airspace (SUA), and instrumented ranges. The Navy CP Range Complex encompasses: 18,617 nm² of offshore surface and subsurface OPAREA; 12,529 nm² of deep ocean area greater than 100 fathoms (600 feet); and 18,966 nm² of SUA (warning area). No land ranges or facilities are included within the study area for this EIS/OEIS. The focus of the EIS/OEIS is the exercises and other actions in the ocean environment. Issues associated with land-based ranges will be assessed separately by the U.S. Marine Corps.

The scope of actions to be analyzed in this EIS/OEIS includes current and proposed future Navy training and RDT&E within Navy-controlled operating areas, airspace, and instrumented ranges. It also includes proposed Navy-funded range capabilities enhancements, including infrastructure improvements, which support range complex training and RDT&E. Activities that involve the use of active sonar are conducted in the Navy CP Complex; however, those potential effects are being analyzed in detail in a separate document, the Atlantic Fleet Active Sonar Training EIS/OEIS. That separate sonar EIS/OEIS addresses active sonar use as a whole by the Atlantic Fleet in the eastern Atlantic Ocean (including waters that are part of the Navy CP Complex), and in the Gulf of Mexico. The results of that sonar EIS/OEIS will be incorporated into the Navy CP Range Complex EIS/OEIS to account for active sonar effects that could occur within the geographic area of the Navy CP Range Complex.

Dates and Addresses: Two public scoping meetings will be held, one in Morehead City, North Carolina and one in Wilmington, North Carolina, to receive oral and written comments on environmental concerns that should be addressed in the Navy CP Range Complex EIS/OEIS. Public scoping meetings will be held at the following dates, times, and locations: May 16, 2007, from 5 p.m. to 8 p.m. at West Carteret High School, 4700 Country Club Road, Morehead City, North Carolina, and May 17, 2007, from 5 p.m. to 8 p.m. at New Hanover High School, 1307 Market Street, Wilmington, North Carolina.

FOR FURTHER INFORMATION CONTACT: Kelly Knight, Naval Facilities Engineering Command Atlantic, (757) 322-4398.

SUPPLEMENTARY INFORMATION: The Navy's mission is to maintain, train, and equip combat-ready naval forces capable of winning wars, deterring aggression and maintaining freedom of the seas. For that reason, Title 10 U.S.C. 5062 directs the Chief of Naval Operations to train all naval forces for combat. The Chief of Naval Operations meets that direction, in part, by conducting at-sea training exercises and ensuring naval forces have access to ranges, OPAREAs and airspace where they can develop and maintain skills for wartime missions and conduct RDT&E of naval weapons systems. As such, Navy ranges, OPAREAs, and airspace must be maintained and/or enhanced to accommodate necessary training and testing activities in support of national security objectives.

The purpose of the proposed action is to: Achieve and maintain Fleet readiness using the Navy CP Range Complex to support current, emerging, and future training and RDT&E operations; expand warfare missions; and upgrade/modernize existing range capabilities to enhance and sustain Navy training and testing.

The need for the proposed action is to provide combat capable forces ready to deploy worldwide in accordance with Title 10 U.S.C 5062. Specifically, maintain current levels of military readiness by training and testing in the Navy CP Range Complex; accommodate future increases in operational training tempo in the Navy CP Range Complex and support the rapid deployment of naval units or strike groups; achieve and sustain readiness in ships and squadrons so that the Navy can quickly surge significant combat power in the event of a national crisis or contingency operation and consistent with FRTP; support the testing and training needed for new aircraft, vessels, weapons systems and missions; and maintain the long-term viability of the Navy CP Range Complex while protecting human health and the environment.

Three alternatives will be evaluated in the EIS/OEIS including: (1) The No Action Alternative comprising baseline operations and support of existing range capabilities; (2) Alternative 1 comprising the No Action Alternative plus additional operations, expanded warfare missions, accommodation of force structure changes including training and RDT&E resulting from the introduction of new vessels, aircraft, weapons systems and missions, and the implementation of enhancements to range infrastructure; and (3) Alternative 2, comprising Alternative 1 plus additional increases in training, and implementation of enhancements that will optimize training throughput in support of future contingencies. The EIS/OEIS will evaluate the environmental effects associated with: Airspace; noise; range safety; water resources; air quality; biological resources, including threatened and endangered species; land use; socioeconomic resources; infrastructure; and cultural resources. The analysis will include an evaluation of direct and indirect impacts, and will account for cumulative impacts from other naval activities in the Navy CP Range Complex. No decision will be made to implement any alternative until the EIS/OEIS process is completed and a Record of Decision is signed by the Assistant Secretary of the Navy (Installations and Environment).

The Navy is initiating the scoping process to identify community concerns and local issues to be addressed in the EIS/OEIS. Federal agencies, State agencies, local agencies, and interested persons are encouraged to provide oral and/or written comments to the Navy to identify specific issues or topics of environmental concern that should be addressed in the EIS/OEIS. Written comments must be postmarked by June 12, 2007 and should be mailed to: Naval Facilities Engineering Command, Atlantic, 6506 Hampton Boulevard, Norfolk, Virginia, 23508-1278, Attention: Ms. Kelly Knight.

R.K. Giroux,
Captain (Sel), Judge Advocate General's Corps, U.S. Navy, Federal Register Liaison Officer.

[FR Doc. E7-8188 Filed 4-27-07; 8:45 am]

BILLING CODE 3810-FF-P